PEACE CORPS

Information Collection Request; Submission for OMB Review

AGENCY: Peace Corps.

ACTION: 30-day notice and request for comments.

SUMMARY: The Peace Corps will be submitting the following information collection request to the Office of Management and Budget (OMB) for review and approval. The purpose of this notice is to allow 30 days for public comment in the Federal Register preceding submission to OMB. We are conducting this process in accordance with the Paperwork Reduction Act of 1995 (44 U.S.C. Chapter 35).

DATES: Submit comments on or before June 14, 2017.

ADDRESSES: Comments should be addressed to Denora Miller, FOIA/Privacy Act Officer. Denora Miller can be contacted by telephone at 202-692-1236 or email at pcfr@peacecorps.gov. Email comments must be made in text and not in attachments.

FOR FURTHER INFORMATION CONTACT: Denora Miller at Peace Corps address above.

SUPPLEMENTARY INFORMATION: Title: Volunteer Recruitment and Selection Confidential Reference Form.

OMB Control Number: 0420-0006.

Type of Request: Revision.

Affected Public: Individuals.

Respondents Obligation to Reply: Voluntary.

Respondents: Individuals.

Burden to the Public

Estimated burden (hours) of the collection of information:

a. Number of respondents: 18,000.

b. Frequency of response: one time.

c. Completion time: 10 minutes.

d. Annual burden hours: 3000 hours.

General Description of Collection: The reference form is a tool that the Peace Corps employs to ensure a standardized suitability review of applicants. The Assessment and Placement Officer requests the completion of the reference form and uses the information therein to assist in determining the suitability and competitiveness of the applicant.

Request for Comment: Peace Corps invites comments on whether the proposed collections of information are necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice is issued in Washington, DC on May 8, 2017.
Denora Miller,
FOIA/Privacy Act Officer, Management.

[FR Doc. 2017-09690 Filed 5-12-17; 8:45 am]

BILLING CODE 6051-01-P